Title 3—

The President

Memorandum of April 20, 2020

Providing Continued Federal Support for Governors' Use of the National Guard To Respond to COVID-19 and To Facilitate Economic Recovery

Memorandum for the Secretary of Defense [and] the Secretary of Homeland Security

By the authority vested in me as President by the Constitution and the laws of the United States of America, including the Robert T. Stafford Disaster Relief and Emergency Assistance Act, 42 U.S.C. 5121-5207 (the “Stafford Act”), and section 502 of title 32, United States Code, it is hereby ordered as follows:

Section 1. Policy. It is the policy of the United States to take measures to assist State and territorial Governors under the Stafford Act in their responses to all threats and hazards to the American people in their respective States and territories. On March 13, 2020, I declared a national emergency recognizing the threat that COVID-19, the disease caused by the novel (new) coronavirus known as SARS-CoV-2 (“the virus”), and the virus poses to the Nation's healthcare systems. I also determined that same day that the COVID-19 outbreak constituted an emergency, of nationwide scope, pursuant to section 501(b) of the Stafford Act (42 U.S.C. 5191(b)). Considering the profound and unique public health risks posed by the ongoing outbreak of COVID-19, the need for close cooperation and mutual assistance between the Federal Government and the States and territories is greater than at any time in recent history. This need remains as the United States continues to battle the public health threat posed by the virus, while transitioning to a period of increased economic activity and recovery in those areas of the Nation where the threat posed by the virus has been sufficiently mitigated. To provide maximum support to the States and territories as they make decisions about the responses required to address local conditions in their respective jurisdictions with respect to combatting the threat posed by the virus and, where appropriate, facilitating their economic recovery, I am taking the actions set forth in sections 2, 3, and 4 of this memorandum:

Sec. 2. One Hundred Percent Federal Cost Share. To maximize assistance to the Governors of the States of Alabama, Alaska, and Delaware to facilitate Federal support with respect to the use of National Guard units under State control, I am directing the Federal Emergency Management Agency (FEMA) of the Department of Homeland Security to fund 100 percent of the emergency assistance activities associated with preventing, mitigating, and responding to the threat to public health and safety posed by the virus that these States undertake using their National Guard forces, as authorized by sections 403 (42 U.S.C. 5170b) and 503 (42 U.S.C. 5193) of the Stafford Act.

Sec. 3. Support of Operations or Missions to Prevent and Respond to the Spread of COVID-19. I am directing the Secretary of Defense, to the maximum extent feasible and consistent with mission requirements (including geographic proximity), to request pursuant to 32 U.S.C. 502(f) that the Governors of the States of Alabama, Alaska, and Delaware order National Guard forces to perform duty to fulfill mission assignments, on a fully reimbursable basis, that FEMA issues to the Department of Defense for the purpose of supporting their respective State and local emergency assistance efforts under the Stafford Act.

Sec. 4. Termination and Extension. The 100 percent Federal cost share for the States' and territories' use of National Guard forces authorized pursuant to this memorandum, and my prior memoranda dated March 22, 28, and 30, 2020, and April 2, 7, and 13, 2020, each titled “Providing Federal Support for Governors' Use of the National Guard to Respond to COVID-19,” shall extend to, and shall be available for orders of any length authorizing duty through, May 31, 2020.

Sec. 5. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Defense is authorized and directed to publish this memorandum in the Federal Register.

THE WHITE HOUSE,

Washington, April 20, 2020

[FR Doc. 2020-08958

Filed 4-23-20; 11:15 am]

Billing code 5001-06-P